SMALL BUSINESS ADMINISTRATION

[Disaster Declaration #14685 and #14686]

Mississippi Disaster Number MS-00084

AGENCY: U.S. Small Business Administration.

ACTION: Amendment 1.

SUMMARY: This is an amendment of the Presidential declaration of a major disaster for the State of Mississippi (FEMA-4268-DR), dated 03/25/2016.

Incident: Severe storms and flooding.

Incident Period: 03/09/2016 and continuing.

Effective Date: 03/31/2016.

Physical Loan Application Deadline Date: 05/24/2016.

EIDL Loan Application Deadline Date: 12/27/2016.

ADDRESSES: Submit completed loan applications to: U.S. Small Business Administration, Processing and Disbursement Center, 14925 Kingsport Road, Fort Worth, TX 76155.

FOR FURTHER INFORMATION CONTACT: Alan Escobar, Office of Disaster Assistance, U.S. Small Business Administration, 409 3rd Street SW., Suite 6050, Washington, DC 20416.

SUPPLEMENTARY INFORMATION: The notice of the Presidential disaster declaration for the State of MISSISSIPPI, dated 03/25/2016 is hereby amended to include the following areas as adversely affected by the disaster:

Primary Counties: (Physical Damage and Economic Injury Loans): Clarke, Forrest, Greene, Jones, Marion, Panola, Perry, Quitman, Sunflower, Tunica, Wayne.

Contiguous Counties: (Economic Injury Loans Only):

Mississippi: Covington, Desoto, George, Jasper, Jefferson Davis, Lafayette, Lamar, Lauderdale, Lawrence, Leflore, Newton, Pearl River, Smith, Stone, Tate, Walthall, Yalobusha.

Alabama: Choctaw, Mobile, Washington.

Arkansas: Crittenden, Lee.

Louisiana: Washington.

All other information in the original declaration remains unchanged.

(Catalog of Federal Domestic Assistance Numbers 59008)

James E. Rivera,
Associate Administrator for Disaster Assistance.

[FR Doc. 2016-08309 Filed 4-11-16; 8:45 am]

BILLING CODE 8025-01-P